DEPARTMENT OF TRANSPORTATION

Federal Aviation Administration

14 CFR Part 71

[Docket No. FAA-2025-5832; Airspace Docket No. 25-AWP-140]

RIN 2120-AA66

Modification of Class D, Establishment and Revocation of Class E Airspaces; Travis Air Force Base (SUU), Fairfield, CA

AGENCY: Federal Aviation Administration (FAA), DOT.

ACTION: Notice of proposed rulemaking (NPRM).

SUMMARY: This action proposes to modify the Class D airspace area, establish a Class E airspace area designated as a surface area (Class E2 airspace area), and revoke the Class E airspace area designated as an extension to a Class D airspace area (Class E4 airspace area) at Travis Air Force Base, Fairfield, CA. Additionally, this action proposes administrative amendments to update the airport's legal descriptions. These actions would support the safety and management of instrument flight rules (IFR) operations at the airport.

DATES: Comments must be received on or before March 30, 2026.

ADDRESSES: Send comments identified by FAA Docket No. FAA-2025-5832 and Airspace Docket No. 25-AWP-140 using any of the following methods:

* Federal eRulemaking Portal: Go to www.regulations.gov and follow the online instructions for sending your comments electronically.

* Mail: Send comments to Docket Operations, M-30; U.S. Department of Transportation, 1200 New Jersey Avenue SE, Room W12-140, West Building Ground Floor, Washington, DC 20590-0001.

* Hand Delivery or Courier: Take comments to Docket Operations in Room W12-140 of the West Building Ground Floor at 1200 New Jersey Avenue SE, Washington, DC, between 9 a.m. and 5 p.m., Monday through Friday, except Federal holidays.

* Fax: Fax comments to Docket Operations at (202) 493-2251.

Docket: Background documents or comments received may be read at www.regulations.gov at any time. Follow the online instructions for accessing the docket or go to the Docket Operations in Room W12-140 of the West Building Ground Floor at 1200 New Jersey Avenue SE, Washington, DC, between 9 a.m. and 5 p.m., Monday through Friday, except Federal holidays.

FAA Order JO 7400.11K, Airspace Designations and Reporting Points, and subsequent amendments can be viewed online at www.faa.gov/air_traffic/publications/.

FOR FURTHER INFORMATION CONTACT: Keith T. Adams, Federal Aviation Administration, Western Service Center, Operations Support Group, 2200 S 216th Street, Des Moines, WA 98198; telephone (206) 231-2428.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the Class D airspace area, establish a Class E2 airspace area, and remove the Class E4 airspace area to support IFR operations at Travis Air Force Base, Fairfield, CA.

Comments Invited

The FAA invites interested persons to participate in this rulemaking by submitting written comments, data, or views. Comments are specifically invited on the overall regulatory, aeronautical, economic, environmental, and energy-related aspects of the proposal. The most helpful comments reference a specific portion of the proposal, explain the reason for any recommended change, and include supporting data. To ensure the docket does not contain duplicate comments, commenters should submit only one time if comments are filed electronically, or commenters should send only one copy of written comments if comments are filed in writing.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The FAA may change this proposal in light of the comments it receives.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Availability of Rulemaking Documents

An electronic copy of this document may be downloaded through the internet at www.regulations.gov. Recently published rulemaking documents can also be accessed through the FAA's web page at www.faa.gov/air_traffic/publications/airspace_amendments/.

You may review the public docket containing the proposal, any comments received and any final disposition in person in the Dockets Operations office (see ADDRESSES section for address, phone number, and hours of operations). An informal docket may also be examined during normal business hours at the Northwest Mountain Regional Office of the Federal Aviation Administration, Air Traffic Organization, Western Service Center, Operations Support Group, 2200 S 216th Street, Des Moines, WA 98198.

Incorporation by Reference

Class D, E2, and E4 airspace area designations are published in paragraphs 5000, 6002 and 6004, respectively, of FAA Order JO 7400.11, Airspace Designations and Reporting Points, which is incorporated by reference in 14 CFR 71.1 on an annual basis. This document proposes to amend the current version of that order, FAA Order JO 7400.11K, dated August 4, 2025, and effective September 15, 2025. These amendments would be published in the next update to FAA Order JO 7400.11. FAA Order JO 7400.11K, which lists Class A, B, C, D, and E airspace areas, air traffic service routes, and reporting points, is publicly available as listed in the ADDRESSES section of this document.

The Proposal

The FAA is proposing an amendment to 14 CFR part 71 that would modify the Class D airspace area, establish a Class E airspace area designated as a surface area, and remove the Class E airspace area designated as an extension to a Class D airspace area at Travis Air Force Base, Fairfield, CA.

The Class D airspace area is not appropriately sized to contain the airport's instrument approach procedures (IAP) descent profiles once reaching 1,000 feet above the surface. The following IAPs are not in compliance with the design criteria for containing instrument approach operation within a Class D airspace area: Instrument Landing System (ILS) Runway (RWY) 21 Left (L) (CAT II), ILS or Localizer (LOC) or Area Navigation (RNAV) (Global Positioning System [GPS]) RWY 21L, Tactical Air Navigation (TACAN) RWY 21L, ILS RWY 3L, and LOC RWY 3L. Additionally, the Class D airspace area is not within design standards as it does not adequately contain the following IFR departure procedures until reaching 700 feet above the surface or the next adjacent controlled airspace: BESSA TWO DEPARTURE (RNAV) (the RWY 3 Right (R)/21L profile), and REJOY ONE DEPARTURE (RNAV) (the RWY 3R/21R profile). The Class D airspace area would be modified to a 4.3-mile radius of the airport, within 2 miles either side of the airport's 049° bearing extending from the 4.3-mile arc to five miles northeast, within two miles either side of the airport's 229° bearing extending from the 4.3-mile arc to 5.8 miles southwest to better contain the above listed instrument procedures.

SUU's airport traffic control tower is transitioning to part-time operating hours. Therefore, the FAA proposes to establish a Class E2 surface area for periods when the tower is not operating in accordance with FAA policies. The Class E2 surface area would consist of the same lateral dimensions as the Class D airspace area to maintain continuity of IFR procedure containment.

The Class E4 airspace area is no longer required. The required IAP points that authorized the establishment of the extension area will be contained within the proposed surface areas. Accordingly, FAA proposes removal of this airspace.

Finally, the FAA proposes administrative amendments to SUU's legal airspace descriptions. The airport's name should be updated from Fairfield, Travis AFB, CA, to Travis Air Force Base, CA. The airport reference point (ARP) should be amended from lat. 38°15′46″ N, long. 121°55′39″ W to lat. 38°15′52″ N, long. 121°55′27″ W. Lastly, the Class D and E legal descriptions should be amended to include part-time operating nomenclature. The Class D legal description should read: “This Class D airspace area is effective during the specific dates and times established in advance by a Notice to Airmen. The effective date and time will thereafter be continuously published in the Chart Supplement.” The Class E legal description should read: “This Class E airspace area is effective during the specific dates and times established in advance by a Notice to Airmen. The effective date and time will thereafter be continuously published in the Chart Supplement.”

Regulatory Notices and Analyses

The FAA has determined that this proposed regulation only involves an established body of technical regulations for which frequent and routine amendments are necessary to keep them operationally current. It, therefore: (1) is not a “significant regulatory action” under Executive Order 12866, (2) is not a “significant rule” under DOT Regulatory Policies and Procedures (44 FR 11034; February 26, 1979), and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1G, FAA National Environmental Policy Act Implementing Procedures, prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11K, Airspace Designations and Reporting Points, dated August 4, 2025, and effective September 15, 2025, is amended as follows:

Paragraph 5000 Class D Airspace.

* * * * *

AWP CA D Fairfield, CA [Amended]

Travis Air Force Base, CA

(Lat. 38°15′52″ N, long. 121°55′27″ W)

That airspace extending upward from the surface to and including 2,600 feet within a 4.3-mile radius of the airport, within 2 miles either side of the airport's 049° bearing extending from the 4.3-mile arc to 5 miles northeast, within 2 miles either side of the airport's 229° bearing extending from the 4.3-mile arc to 5.8 miles southwest. This Class D airspace area is effective during the specific dates and times established in advance by a Notice to Airmen. The effective date and time will thereafter be continuously published in the Chart Supplement.

* * * * *

Paragraph 6002 Class E Airspace Areas Designated as Surface Areas.

* * * * *

AWP CA E2 Fairfield, CA [New]

Travis Air Force Base, CA

(Lat. 38°15′52″ N, long. 121°55′27″ W)

That airspace extending upward from the surface within a 4.3-mile radius of the airport, within 2 miles either side of the airport's 049° bearing extending from the 4.3-mile arc to 5 miles northeast, within 2 miles either side of the airport's 229° bearing extending from the 4.3-mile arc to 5.8 miles southwest. This Class E airspace area is effective during the specific dates and times established in advance by a Notice to Airmen. The effective date and time will thereafter be continuously published in the Chart Supplement.

* * * * *

Paragraph 6004 Class E Airspace Areas Designated as an Extension to a Class D or Class E Surface Area.

* * * * *

AWP CA E4 Fairfield, CA [Remove]

Fairfield, Travis AFB, CA

(Lat. 38°15′46″ N, long. 121°55′39″ W)

That airspace extending upward from the surface within 1.8 miles each side of the Travis AFB 047° bearing, extending from the 4.3-mile radius to 8.7 miles northeast, and within 1.8 miles each side of the Travis AFB 227° bearing extending from the 4.3-mile radius of the airport to 8.7 miles southwest, and within 3.7 miles northwest and 1.8 miles southeast of the Travis AFB 236° bearing extending from the 4.3-mile radius to 5.6 miles southwest.

* * * * *

Issued in Des Moines, Washington, on February 11, 2026.
B.G. Chew,
Group Manager, Operations Support Group, Western Service Center.

[FR Doc. 2026-02985 Filed 2-12-26; 8:45 am]

BILLING CODE 4910-13-P